FEDERAL COMMUNICATIONS COMMISSION

47 CFR Part 73

[DA 01-2058; MM Docket No. 01-209, RM-10224; MM Docket No. 01-210, RM-10225; MM Docket No. 01-211, RM-10221; MM Docket No. 01-212, RM-10222; MM Docket No. 01-213, RM-10226; MM Docket No. 01-214, RM-10227; MM Docket No. 01-215, RM-10228; MM Docket No. 01-216, RM-10223]

Radio Broadcasting Services: Broken Bow, OK; Crowell, TX; Holly Springs, MS; Kiowa, OK; McBain, MI; Menard, TX; Sparkman, AR; and Valliant, OK.

AGENCY: Federal Communications Commission.

ACTION: Proposed rule.

SUMMARY: This document proposes new allotments to Broken Bow, OK; Crowell, TX; Holly Springs, MS; Kiowa, OK; McBain, MI; Menard, TX; Sparkman, AR; and Valliant, OK. The Commission requests comments on a petition filed by Maurice Salsa, proposing the allotment of Channel 285A at Broken Bow, Oklahoma, as the community's second local aural transmission service. Channel 285A can be allotted to Broken Bow in compliance with the Commission's minimum distance separation requirements with a site restriction of 5.9 kilometers (3.7 miles) northwest of Broken Bow. The coordinates for Channel 285A at Broken Bow are 34-04-41 North Latitude and 94-45-53 West Longitude. See Supplementary Information.

DATES: Comments must be filed on or before October 22, 2001, and reply comments on or before November 6, 2001.

ADDRESSES: Federal Communications Commission, Washington, DC 20554. In addition to filing comments with the FCC, interested parties should serve the petitioners, as follows: Maurice Salsa, 5615 Evergreen Valley Drive, Kingwood, Texas 77345 (Petitioner for Broken Bow, Oklahoma; Kiowa, Oklahoma; and Valliant, Oklahoma); Katherine Pyeatt, 6655 Aintree Circle, Dallas, Texas 75214 (Petitioner for Crowell, Texas; and Menard, Texas); Holly Springs Radio, P.O. Box 165, Winona, Mississippi (Petitioner for Holly Springs, Mississippi); Arthur Belendiuk, Smithwick & Belendiuk, P.C.; 5028 Wisconsin Avenue, N.W., Suite 301; Washington, D.C. 20016 (Counsel for petitioner for McBain, Michigan); and Big Country Radio, Inc., P.O. Box 11196, College Station, Texas 77842 (Petitioner for Sparkman, Arkansas).

FOR FURTHER INFORMATION CONTACT: R. Barthen Gorman, Mass Media Bureau, (202) 418-2180.

SUPPLEMENTARY INFORMATION: This is a synopsis of the Commission's Notice of Proposed Rule Making, MM Docket No. 01-209; MM Docket No. 01-210; MM Docket No. 01-211; MM Docket No. 01-212; MM Docket No. 01-213; MM Docket No. 01-214; MM Docket No. 01-215; and MM Docket No. 01-216, adopted August 22, 2001, and released August 31, 2001. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW, Washington, DC 20036.

The Commission requests comments on a petition filed by Katherine Pyeatt proposing the allotment of Channel 293C3 at Crowell, Texas, as the community's first local aural transmission service. Channel 293C3 can be allotted to Crowell in compliance with the Commission's minimum distance separation requirements with a site restriction of 9.7 kilometers (6.0 miles) west of Crowell. The coordinates for Channel 293C3 at Crowell are 34-00-00 North Latitude and 99-49-40 West Longitude.

The Commission requests comments on a petition filed by Holly Springs Radio proposing the allotment of Channel 243A at Holly Springs, Mississippi, as that community's fourth local aural FM transmission service. Channel 243A can be allotted to Holly Springs in compliance with the Commission's minimum distance separation requirements with a site restriction of 12.6 kilometers (7.9 miles) southwest of Holly Springs. The coordinates for Channel 243A at Holly Springs are 34-41-32 North Latitude and 89-32-33 West Longitude.

The Commission requests comments on a petition filed by Maurice Salsa proposing the allotment of Channel 254A at Kiowa, Oklahoma, as that community's first local aural transmission service. Channel 254A can be allotted to Kiowa in compliance with the Commission's minimum distance separation requirements with a site restriction of 7.1 kilometers (4.4 miles) west of Kiowa. The coordinates for Channel 254A at Kiowa are 34-42-23 North Latitude and 95-58-48 West Longitude.

The Commission requests comments on a petition filed on behalf of McBain Broadcasting Company proposing the allotment of Channel 300A at McBain, Michigan, as that community's first local aural transmission service. Chanel 300A can be allotted to McBain in compliance with the Commission's minimum distance separation requirements with a site restriction 9.1 kilometers (5.6 miles) east of McBain. The coordidnates for Channel 300A at McBain are 44-12-09 North Latitude and 85-06-02 West Longitude. Since McBain is located within 320 kilometers of the U.S.-Canada border, concurrence of the Canadian Government will be requested for this allotment.

The Commission requests comments on a petition filed by Katherine Pyeatt proposing the allotment of Channel 242A at Menard, Texas, as that community's second local FM transmission service. Channel 242A can be allotted to Menard in compliance with the Commission's minimum distance separation requirements with a site restriction of 11.8 kilometers (7.3 miles) northwest of Menard, Texas. The coordinates for Channel 242A at Menard are 30-59-47 North Latitude and 99-52-06 West Longitude. Since Menard is located within 320 kilometers of the U.S.-Mexico border, concurrence of the Mexican government will be requested for this allotment.

The Commission requests comments on a petition filed by Big Country Radio, Inc. proposing the allotment of Channel 259A at Sparkman, Arkansas, as that community's first local aural transmission service. Channel 259A can be allotted to Sparkman in compliance with the Commission's minimum distance separation requirements at the city's reference coordinates. The coordinates for Channel 259A at Sparkman are 33-55-00 North Latitude and 92-50-53 West Longitude.

The Commission requests comments on a petition filed by Maurice Salsa proposing the allotment of Channel 234C3 at Valliant, Oklahoma, as that community's first local aural transmission service. Chanel 234C3 can be allotted to Valliant in compliance with the Commission's minimum distance separation requirements at the city's reference coordinates. The coordinates for Channel 234C3 at Valliant are 34-00-06 North Latitude and 95-05-42 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

1. Section 73.202(b), the Table of FM Allotments under Arkansas, is amended by adding Sparkman, Channel 259A.

2. Section 73.202(b), the Table of FM Allotments under Michigan, is amended by adding McBain, Channel 300A.

3. Section 73.202(b), the Table of FM Allotments under Mississippi, is amended by adding Channel 243A at Holly Springs.

4. Section 73.202(b), the Table of FM Allotments under Oklahoma, is amended by adding Channel 285A at Broken Bow; Kiowa, Channel 254A; and Valliant, Channel 234C3.

5. Section 73.202(b) of the Table of FM Allotments under Texas, is amended by adding Crowell, Channel 293C3, and Channel 242A at Menard.

Federal Communications Commission.
John A. Karousos,
Chief, Allocations Branch, Policy and Rules Division, Mass Media Bureau.

[FR Doc. 01-22832 Filed 9-11-01; 8:45 am]

BILLING CODE 6712-01-P